ENVIRONMENTAL PROTECTION AGENCY

[FRL-9623-01-OMS]

National and Governmental Advisory Committees to the U.S. Representative to the Commission for Environmental Cooperation (CEC)

AGENCY: Environmental Protection Agency (EPA).

ACTION: Notice of meeting.

SUMMARY: Under the Federal Advisory Committee Act, the Environmental Protection Agency (EPA) gives notice of a public meeting of the National Advisory Committee (NAC) and the Government Advisory Committee (GAC). The NAC and GAC provide advice the EPA Administrator a broad range of environmental policy, technology, and management issues. NAC/GAC members represent academia, business/industry, non-governmental organizations, and state, local and tribal governments. The purpose of this meeting is to provide advice to the EPA Administrator, regarding a new draft project description for the CEC Operational Plan and discuss how to integrate climate change and environmental justice in the work of the CEC. A copy of the meeting agenda will be posted at https://www.epa.gov/faca/nac-gac.

DATES: NAC/GAC will hold a public virtual meeting on April 28, 2022 from 11:00 a.m. to 3:00 p.m. (EST).

ADDRESSES: The meeting will be conducted virtually. To gain access to the meeting please contact Oscar Carrillo at 202-564-0347 or carrillo.oscar@epa.gov.

FOR FURTHER INFORMATION CONTACT: Oscar Carrillo, Program Analyst, carrillo.oscar@epa.gov, (202) 564-0347, U.S. EPA, Office of Resources and Business Operations; Federal Advisory Committee Management Division (MC1601M), 1200 Pennsylvania Avenue NW, Washington, DC 20460.

SUPPLEMENTARY INFORMATION: Requests to make oral comments or to provide written comments to NAC/GAC should be sent to Oscar Carrillo at carrillo.oscar@epa.gov by April 21, 2022. Virtual meeting is open to the public. Members of the public wishing to participate in the meeting should contact Oscar Carrillo via email or by calling (202) 564-0347 no later than April 7, 2022.

Meeting Access: Information regarding accessibility and/or accommodations for individuals with disabilities should be directed to Oscar Carrillo at the email address or phone number listed above. To ensure adequate time for processing, please make requests for accommodations at least 10 days prior to the teleconference meeting.

Dated: March 15, 2022.
Oscar Carrillo,
Program Analyst.

[FR Doc. 2022-05880 Filed 3-18-22; 8:45 am]

BILLING CODE 6560-50-P